DEPARTMENT OF HEALTH AND HUMAN SERVICES

National Institutes of Health

National Institutes of Neurological Disorders and Stroke; Amended Notice of Meeting

Notice is hereby given of a change in the meeting of the National Institute of Neurological Disorders and Stroke Special Emphasis Panel, November 18, 2003, 3:30 p.m. to November 18, 2003, 5 p.m. National Institutes of Health, Neuroscience Center, 6001 Executive Boulevard, Rockville, MD, 20852 which was published in the Federal Register on November 3, 2003, FR 68 03-27501.

The meeting will be held on November 18, 2003 from 3:30 p.m. to 5 p.m. instead of 2 p.m. to 4 p.m. The meeting is closed to the public

Dated: November 7, 2003.
LaVerne Y. Stringfield,
Director, Office of Federal Advisory Committee Policy.

[FR Doc. 03-28556 Filed 11-13-03; 8:45 am]

BILLING CODE 4140-01-M